DEPARTMENT OF COMMERCE

International Trade Administration

[A-588-810]

Mechanical Transfer Presses From Japan: Extension of Time Limit for Preliminary Results of Antidumping Administrative Review

AGENCY: Import Administration, International Trade Administration, Department of Commerce.

ACTION: Notice of extension of time limit for preliminary results of administrative review.

EFFECTIVE DATE: October 30, 2000.

FOR FURTHER INFORMATION CONTACT: Mark Hoadley, AD/CVD Enforcement, Import Administration, International Trade Administration, U.S. Department of Commerce, 14th Street and Constitution Avenue, NW., Washington DC 20230; telephone: (202)482-0666.

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (1999).

Background

On February 29, 2000, the Department of Commerce (the Department) received a request from Komatsu, Ltd. (Komatsu) for an administrative review of the antidumping duty order on mechanical transfer presses from Japan. On March 30, 2000, the Department published a notice of initiation of this administrative review covering the period of February 1, 1999 through January 31, 2000 (65 FR 16875).

Extension of Time Limits for Preliminary Results

Because of the complexities enumerated in the Memorandum from Barbara E. Tillman to Joseph A. Spetrini, Extension of Time Limit for the Administrative Review of Mechanical Transfer Presses from Japan, dated October 24, 2000, it is not practicable to complete this review within the time limits mandated by section 751(a)(3)(A) of the Act.

Therefore, in accordance with section 751(a)(3)(A), the Department is extending the time limits for the preliminary results to February 28, 2001. The final results continue to be due 120 days after the publication of the preliminary results.

Dated: October 24, 2000.
Edward C. Yang,
Acting Deputy Assistant Secretary, AD/CVD Enforcement Group III.

[FR Doc. 00-27814 Filed 10-27-00; 8:45 am]

BILLING CODE 3510-DS-P